DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forests' Lincoln County Resource Advisory Committee will meet on September 1, at 6 p.m. at the Historic Raven Ranger State, 30 miles South of Libby, Montana for a business meeting. The meeting is open to the public.

DATES: September 1, 2004.

ADDRESSES: Historic Raven Ranger Station, located at 30753 U.S. Highway 2, 30 miles South of Libby, MT.

FOR FURTHER INFORMATION CONTACT: Barbara Edgmon, Committee Coordinator, Kootenai National Forest at (406) 293-6211, or e-mail bedgmon@fs.fed.us.

SUPPLEMENTARY INFORMATION: Agenda topics include status of approved projects and receiving public comment. If the meeting date or location is changed, notice will be posted in the local newspapers, including the Daily Interlake based in Kalispell, MT.

Dated: August 13, 2004.
Bob Castaneda,
Forest Supervisor.

[FR Doc. 04-19213 Filed 8-20-04; 8:45 am]

BILLING CODE 3410-11-M